DEPARTMENT OF HOMELAND SECURITY

Transportation Security Administration

Reports, Forms, and Record Keeping Requirements: Agency Information Collection Activity Under OMB Review; Federal Flight Deck Officer Program

AGENCY: Transportation Security Administration (TSA), DHS.

ACTION: Notice of emergency clearance request.

SUMMARY: TSA has submitted a request for emergency processing of an existing public information collection to the Office of Management and Budget (OMB) for review and immediate clearance under the Paperwork Reduction Act of 1995 (Pub. L. 104-13, 44 U.S.C. 35). This notice announces that the Information Collection Request (ICR) abstracted below has been forwarded to OMB for review and comment. The ICR describes the nature of the information collection and its expected burden.

DATES: Send your comments by April 26, 2004. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Privacy Act Officer, Information Management Programs, Transportation Security Administration HQ, West Tower, Floor 4, TSA-17, 601 S. 12th Street, Arlington, VA 22202-4220; telephone (571) 227-1954; facsimile (571) 227-2912.

SUPPLEMENTARY INFORMATION:

Transportation Security Administration

Title: Federal Flight Deck Officer (FFDO) Program.

OMB Control Number: 1652-0011.

Type of Request: Emergency processing request of an existing collection.

Forms(s): FFDO online application.

Affected Public: Applicants to the FFDO Program and current FFDOs.

Abstract: To further supplement the security measures being implemented by TSA, Congress and the President enacted the Arming Pilots Against Terrorism Act (APATA) as Title XIV of the Homeland Security Act, Pub. L. 107-296, Nov. 25, 2002, codified at 49 U.S.C. 44921. APATA required TSA to establish a program to screen, select, train, deputize, equip, and supervise qualified volunteer pilots of passenger aircraft. With the enactment of the Vision 100—Century of Aviation Reauthorization Act, Pub. L. 108-176, the program will be expanded to include pilots of cargo aircraft as well as flight engineers and navigators on both passenger and cargo aircraft. These individuals, known as Federal Flight Deck Officers (FFDOs), are authorized to transport and carry a firearm and to use force, including deadly force, to defend the flight deck of an aircraft against acts of criminal violence or air piracy. Information collected as the result of this renewal request would be used to assess the qualifications and suitability of prospective and current FFDOs through an online application, to ensure the readiness of every FFDO, to administer the program, and for security purposes.

Number of Respondents: 18,622.

Estimated Annual Burden Hours: It is estimated that the online application will take one hour for each applicant to prepare, for a total burden of 18,622 hours.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on March 19, 2004.
Susan T. Tracey,
Chief Administrative Officer.

[FR Doc. 04-6656 Filed 3-24-04; 8:45 am]

BILLING CODE 4910-62-P